DEPARTMENT OF ENERGY

Federal Energy Regulatory Commission

Combined Notice of Filings #1

Take notice that the Commission received the following electric corporate filings:

Docket Numbers: EC21-83-000.

Applicants: ReEnergy Livermore Falls LLC, ReEnergy Stratton LLC.

Description: Application for Authorization Under Section 203 of the Federal Power Act of ReEnergy Livermore Falls LLC, et al.

Filed Date: 4/28/21.

Accession Number: 20210428-5157.

Comments Due: 5 p.m. ET 5/19/21.

Docket Numbers: EC21-84-000.

Applicants: Seneca Energy II, LLC, Innovative Energy Systems, LLC, Sunshine Gas Producers, LLC, Rice Acquisition Corporation, PEI Power LLC, PEI Power II, LLC.

Description: Application for Authorization Under Section 203 of the Federal Power Act of Seneca Energy II, LLC, et al.

Filed Date: 4/28/21.

Accession Number: 20210428-5279.

Comments Due: 5 p.m. ET 5/19/21.

Take notice that the Commission received the following exempt wholesale generator filings:

Docket Numbers: EG21-135-000.

Applicants: SP Garland Solar Storage, LLC.

Description: Self-Certification of EG or FC of SP Garland Solar Storage, LLC.

Filed Date: 4/28/21.

Accession Number: 20210428-5179.

Comments Due: 5 p.m. ET 5/19/21.

Docket Numbers: EG21-136-000.

Applicants: SP Tranquillity Solar Storage, LLC.

Description: SP Tranquillity Solar Storage, LLC submits Notice of Self-Certification of Exempt Wholesale Generator Status.

Filed Date: 4/28/21.

Accession Number: 20210428-5180.

Comments Due: 5 p.m. ET 5/19/21.

Take notice that the Commission received the following electric rate filings:

Docket Numbers: ER20-2452-000; ER20-2453-000.

Applicants: Hamilton Liberty LLC, Hamilton Patriot LLC.

Description: Supplement to July 17, 2020 and October 20, 2020 Hamilton Liberty LLC, et al. tariff filing.

Filed Date: 3/22/21.

Accession Number: 20210322-5515.

Comments Due: 5 p.m. ET 5/19/21.

Docket Numbers: ER21-330-002.

Applicants: Specialty Products US, LLC.

Description: Tariff Amendment: Rate Schedule No. 1 Market Based Rate Tariff to be effective 1/4/2021.

Filed Date: 4/28/21.

Accession Number: 20210428-5264.

Comments Due: 5 p.m. ET 5/19/21.

Docket Numbers: ER21-331-002.

Applicants: DDP Specialty Electronic Materials US, I.

Description: Tariff Amendment: Rate Schedule No. 1 Market Based Rate Tariff to be effective 1/4/2021.

Filed Date: 4/28/21.

Accession Number: 20210428-5267.

Comments Due: 5 p.m. ET 5/19/21.

Docket Numbers: ER21-1264-001.

Applicants: Duke Energy Indiana, LLC.

Description: Tariff Amendment: Annual Reconciliation Filing—Extenstion Request to be effective 7/1/2021.

Filed Date: 4/28/21.

Accession Number: 20210428-5219.

Comments Due: 5 p.m. ET 5/19/21.

Docket Numbers: ER21-1779-000.

Applicants: California Independent System Operator Corporation.

Description: § 205(d) Rate Filing: 2021-04-27 Filing of Rate Sched. 6648—PCA With Cal. Dept. of Water Resources to be effective 6/27/2021.

Filed Date: 4/27/21.

Accession Number: 20210427-5254.

Comments Due: 5 p.m. ET 5/18/21.

Docket Numbers: ER21-1780-000.

Applicants: PJM Interconnection, L.L.C.

Description: § 205(d) Rate Filing: Original WMPA, Service Agreement No. 6060; Queue No. AG1-142 to be effective 3/30/2021.

Filed Date: 4/28/21.

Accession Number: 20210428-5021.

Comments Due: 5 p.m. ET 5/19/21.

Docket Numbers: ER21-1781-000.

Applicants: Consumers Energy Company.

Description: § 205(d) Rate Filing: Wholesale Distribution Service Agreements to be effective 6/1/2021.

Filed Date: 4/28/21.

Accession Number: 20210428-5036.

Comments Due: 5 p.m. ET 5/19/21.

Docket Numbers: ER21-1782-000.

Applicants: Southwest Power Pool, Inc.

Description: § 205(d) Rate Filing: 1771R11 NPPD NITSA NOA Notice of Cancellation to be effective 6/1/2019.

Filed Date: 4/28/21.

Accession Number: 20210428-5050.

Comments Due: 5 p.m. ET 5/19/21.

Docket Numbers: ER21-1783-000.

Applicants: Arizona Public Service Company.

Description: Tariff Cancellation: Service Agreement No. 387—Notice of Cancellation to be effective 6/28/2021.

Filed Date: 4/28/21.

Accession Number: 20210428-5130.

Comments Due: 5 p.m. ET 5/19/21.

Docket Numbers: ER21-1784-000.

Applicants: New York Independent System Operator, Inc., Niagara Mohawk Power Corporation.

Description: § 205(d) Rate Filing: 205 Joint NYISO and NMPC SGIA Among NYISO, NMPC, SunEast Skyline Solar, SA 2608 to be effective 4/15/2021.

Filed Date: 4/28/21.

Accession Number: 20210428-5144.

Comments Due: 5 p.m. ET 5/19/21.

Docket Numbers: ER21-1785-000.

Applicants: Northern States Power Company, a Minnesota corporation.

Description: § 205(d) Rate Filing: 2021-04-28 MMPA-TOP-685-0.0.0 to be effective 6/1/2021.

Filed Date: 4/28/21.

Accession Number: 20210428-5146.

Comments Due: 5 p.m. ET 5/19/21.

Docket Numbers: ER21-1786-000.

Applicants: Niagara Mohawk Power Corporation, New York Independent System Operator, Inc.

Description: § 205(d) Rate Filing: 205: SGIA between Niagara Mohawk and Tesla, SA No. 2624 to be effective 3/29/2021.

Filed Date: 4/28/21.

Accession Number: 20210428-5170.

Comments Due: 5 p.m. ET 5/19/21.

Docket Numbers: ER21-1787-000.

Applicants: Kumquat & Citron Cleantech, LLC.

Description: Kumquat & Citron Cleantech, LLC submits a Petition for a One-Time, Limited Waiver of, or, in the Alternative, Remedial Relief from, a procedural deadline in Section 206.2 of PJM Interconnection, L.L.C. Open Access Transmission Tariff.

Filed Date: 4/28/21.

Accession Number: 20210428-5199.

Comments Due: 5 p.m. ET 5/10/21.

Docket Numbers: ER21-1788-000.

Applicants: Midcontinent Independent System Operator, Inc., Consumers Energy Company.

Description: § 205(d) Rate Filing: 2021-04-28_SA 2887, 2888, 2889, 2890, 2891, 2892 WDS Notice of Cancellation to be effective 6/1/2021.

Filed Date: 4/28/21.

Accession Number: 20210428-5226.

Comments Due: 5 p.m. ET 5/19/21.

Docket Numbers: ER21-1790-000.

Applicants: California Independent System Operator Corporation.

Description: § 205(d) Rate Filing: 2021-04-28 Load, Exports and Wheeling to be effective 6/28/2021.

Filed Date: 4/28/21.

Accession Number: 20210428-5262.

Comments Due: 5 p.m. ET 5/19/21.

Take notice that the Commission received the following PURPA 210(m)(3) filings:

Docket Numbers: QM21-20-000.

Applicants: Cleco Power LLC.

Description: Application of Cleco Power LLC to Terminate Its Mandatory Purchase Obligation under the Public Utility Regulatory Policies Act of 1978.

Filed Date: 4/27/21.

Accession Number: 20210427-5290.

Comments Due: 5 p.m. ET 5/25/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2021.
Kimberly D. Bose,
Secretary.

[FR Doc. 2021-09359 Filed 5-3-21; 8:45 am]

BILLING CODE 6717-01-P